DEPARTMENT OF COMMERCE

National Oceanic and Atmospheric Administration

RIN 0648-XC842

New England Fishery Management Council; Public Meeting

AGENCY: National Marine Fisheries Service (NMFS), National Oceanic and Atmospheric Administration (NOAA), Commerce.

ACTION: Notice; public meetings.

SUMMARY: The New England Fishery Management Council's (Council) Groundfish Advisory Panel and Oversight Committee will meet to consider actions affecting New England fisheries in the exclusive economic zone (EEZ).

DATES: The meetings will be held on Monday, September 16, 2013 at 9 a.m. and Tuesday, September 17, 2013 at 9 a.m.

ADDRESSES: Meeting address: The meetings will be held at the Holiday Inn, 300 Woodbury Ave., Portsmouth, NH 03801: telephone: (603) 431-8000; fax: (603) 501-3733.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Monday, September 16, 2013 beginning at 9 a.m. Groundfish Advisory Panel agenda:

The Groundfish Advisory Panel will meet, primarily to develop recommendations to the Groundfish Oversight Committee on issues that will be discussed during the September 17, 2013 meeting of the Committee. Related to Framework 51, they will consider Groundfish Plan Development Team (PDT) analyses and develop recommendations on draft measures. Related to Amendment 18, the panel will consider Groundfish PDT analyses and develop recommendations on draft measures. The panel will develop recommendations for groundfish priorities for 2014. They will address other business as necessary.

Tuesday, September 17, 2013 beginning at 9 a.m. Groundfish Oversight Committee agenda:

The Groundfish Oversight Committee will meet to discuss issues related to the Northeast Multispecies Fishery Management Plan. Related to Framework 51, the Committee will review Groundfish PDT analyses; review recommendations of the Groundfish Advisory Panel; review recommendations from the NEFMC Whiting Advisory Panel/MAFMC Squid Advisory Panel on small-mesh accountability measures for Georges Bank yellowtail flounder and develop recommendations on draft measures. Related to Amendment 18, they will review Groundfish PDT analyses; review recommendations of the Groundfish Advisory Panel and develop recommendations on draft measures. Also on the agenda will be to develop recommendations for groundfish priorities for 2014. They will address other business as necessary. There will be a closed session to review/recommend Advisory Panel applications for the next three year term (2014-16 term).

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Thomas A. Nies (see ADDRESSES) at least 5 days prior to the meeting date.

Authority: 16 U.S.C. 1801 et seq.

Dated: August 26, 2013.
Tracey L. Thompson,
Acting Deputy Director, Office of Sustainable Fisheries, National Marine Fisheries Service.

[FR Doc. 2013-21149 Filed 8-29-13; 8:45 am]

BILLING CODE 3510-22-P